GENERAL SERVICES ADMINISTRATION

Privacy Act of 1974; Notice of Updated System of Records

AGENCY: General Services Administration

ACTION: Notice of updated system of records.

SUMMARY: The General Services Administration (GSA) is providing notice of an update to the record system Grievance Records (GSA/HRO-10). The system includes grievances filed by agency employees under part 771 of OPM regulations. It also includes files of internal grievance and arbitration systems that are established through negotiations with recognized labor unions.

EFFECTIVE DATE: The system of records will become effective without further notice on February 9, 2007 unless comments received on or before that date result in a contrary determination.

FOR FURTHER INFORMATION CONTACT: Call or e-mail the GSA Privacy Act Officer: telephone 202-501-1452/202-208-1317; e-mail gsa.privacyact@gsa.gov.

ADDRESSES: Comments may be submitted to the Director, Human Capital Policy and Program Management Division (CHP), Office of Human Capital Management (CH), 1800 F Street NW, Washington, DC 20405.

SUPPLEMENTAL INFORMATION: GSA reviewed this Privacy Act system of records to ensure that it is relevant, necessary, accurate, up-to-date, and covered by the appropriate legal or regulatory authority. We are proposing to add exemptions to this system of record notice to protect information that is gathered during investigations for an examiner to make recommendations and final rulings.

Dated: January 4, 2007.
Cheryl M. Paige
Acting Director, Office of Information Management.

GSA\HRO-10

System name:

Grievance Records

System location:

The records are located in the Office of Human Resources Services at GSA or office in GSA in which grievances were filed. The offices are as follows:

Central Office, Central Office Human Resources Division (CHP), General Services Administration, 1800 F Street NW, Washington, DC 20405, (202) 501-0040.

National Capital Region, Human Resources Office (WCP),General Services Administration, 7th and D Streets SW, Washington, DC 20407, (202) 708-5335.

New England Region, Human Resources Office (1CP), General Services Administration, 10 Causeway Street, Boston, MA 02222, (617) 565-6634.

Northeast and Caribbean Region, Human Resources Office (2AR), General Services Administration, 26 Federal Plaza, New York, NY 10278, (212) 264-8138.

Mid-Atlantic Region, Human Resources Office (3CP), General Services Administration, The Strawbridge Building, 20 North Eighth Street, Philadelphia, PA 19107-3191, (215) 446-4951.

Southeast Sunbelt Region, Office of Human Resources (4AH),General Services Administration, 77 Forsyth Street, Suite 650, Atlanta, GA 30303, (404) 331-3186.

Great Lakes Region, Human Resources Office (5CP), General Services Administration, 230 South Dearborn Street, Chicago, IL 60604, (312) 353-5550.

The Heartland Region, Human Resources Office (6CP), General Services Administration, 1500 East Bannister Road, Kansas City, MO 64131, (816) 926-7206.

Greater Southwest Region, Human Resources Office (7CP), General Services Administration, 819 Taylor Street, Room 9A00, Forth Worth, TX 76102, (817) 978-3190.

Pacific Rim Region, Human Resources Office (9CP), General Services Administration, 450 Golden Gate Avenue, San Francisco, CA 94100, (415) 744-5185.

Categories of individuals covered by the system:

Current or former employees who have filed grievances with GSA under part 771 of the Office of Personnel Management (OPM) Regulations (5 CFR Part 771) or a negotiated procedure.

Categories of records in the system:

The system contains grievances filed by agency employees under part 771 of OPM regulations. It also includes files of internal grievance and arbitration systems that are established through negotiations with recognized labor unions.

Authority for maintenance of the system:

5 U.S.C. Chapter 75; E.O. 10577, as amended; E.O. 11491, as amended.

Purpose:

To maintain an information system documenting employee grievances, including statements of witnesses, reports of interviews and hearings, examiner's findings and recommendations, a copy of the original and final decision, and related correspondence and exhibits.

Routine uses of records maintained in the system, including categories of users and the purposes of such uses:

System information may be accessed and used by authorized Federal agency employees or contractors to conduct official duties. Information from this system also may be disclosed as a routine use:

a. In any legal proceeding, where pertinent, to which GSA is a party before a court or administrative body.

b. To disclose information to any source from which additional information is requested in the course of processing a grievance, to the extent necessary to identify the individual, inform the source of the purpose(s) of the request, and to identify the type of information requested.

c. To authorized officials engaged in investigating or settling a grievance, complaint, or appeal filed by an individual who is the subject of the record.

d. To a Federal agency in connection with the hiring or retention of an employee; the issuance of a security clearance; the reporting of an investigation; the letting of a contract; or the issuance of a grant, license, or other benefit to the extent that the information is relevant and necessary to a decision.

e. By GSA or the Office of Personnel Management in the production of summary description statistics and analytical studies in support of the function for which the records are collected and maintained, or for related work force studies. While published statistics do not contain individual identifiers, in some instances the selection of elements of data included in the study may be structured in such a way as to make the data individually identifiable by inference.

f. To officials of the Merit Systems Protection Board, including the Office of Special Counsel; the Federal Labor Relations Authority and its General Counsel, or Equal Employment Opportunity Commission when requested in performance of their authorized duties.

g. In response to a request for a discovery or for appearance of a witness, information that is relevant to the subject matter involved in a pending judicial or administrative proceeding.

h. To provide information to officials of labor organizations reorganized under the Civil Service Reform Act when relevant and necessary to their duties of exclusive representation concerning personnel policies, practices, and matters affecting working conditions.

i. To a Member of Congress or staff on behalf of and at the request of the individual who is the subject of the record.

j. To an expert, consultant, or contractor of GSA in the performance of a Federal duty to which the information is relevant.

k. To the National Archives and Records Administration (NARA) for records management purposes.

Policies and practices for storing, retrieving, accessing, retaining, and disposing of records in the system:

Storage:

The records are maintained in file folders.

Retrievability:

Records reside where the grievance action is processed. The records are filed numerically and/or alphabetically by name.

Safeguards:

These records are maintained in lockable metal filing cabinets to which only authorized personnel have access.

Retention and disposal:

These records are disposed of 3 years after closing of the case. Disposal is by shredding or burning.

System manager(s) and address:

The Director of Human Capital Policy and Program Management Division (CHP), Office of Human Capital Management (CH), 1800 F Street NW, Washington, DC 20405.

Notification procedure:

Current employees may obtain information about whether they are a part of the system by contacting the designated office where the action was processed.

Record access procedure:

Requests from current employees to review information about themselves should be directed to the designated office where the action was processed. For the identification required, see 41 CFR part 105-64.

Contesting record procedures:

Review of a request from an individual seeking to amend a grievance record that has been the subject of a judicial or quasi-judicial process is limited in scope. Review of this type of request is restricted to determining if the record accurately documents GSA's ruling on the case and does not include a review of the merits of an action, determination, or finding. An individual who wishes to amend his or her record to correct factual errors should contact the GSA Office of Human Resources Services (CHP) or the office where the grievance was processed. The individual must also follow the GSA Privacy Act procedures on amending records (CPO 1878.1).

Record source categories:

Officials who manage records pertaining to employees who have filed grievances with GSA under part 771 of the Office of Personnel Management (OPM) Regulations (5 CFR Part 771) or a negotiated procedure.

Files exempted from parts of the act:

Under 5 U.S.C. 552a(k)(2), this system of records is exempt from subsections (c)(3); (d); (e)(1); (e)(4)(G), (e)(4)(H), (e)(4)(I); and (f) of the Act when the records are complied for a law enforcement purpose and the record will not be used to deny a right, benefit, or privilege from the subject of the record.

[FR Doc. E7-165 Filed 1-9-07; 8:45 am]

BILLING CODE 6820-34-S